DEPARTMENT OF JUSTICE

Notice of Lodging of Proposed Consent Decree Under the Clean Water Act

On May 7, 2018, the Department of Justice lodged a proposed Consent Decree with the United States District Court for the District of Massachusetts in the lawsuit entitled United States of America v. Challenge Fisheries LLC et al., Civil Action No. 1:18-cv-10899.

The Complaint in this Clean Water Act case was filed against the defendants concurrently with the lodging of the proposed Consent Decree. The Complaint alleges that the defendants, Challenge Fisheries LLC, Charles Quinn Jr., Quinn Fisheries Inc., and Charles Quinn III, are civilly liable for violations of Section 311 of the Clean Water Act (“CWA”), 33 U.S.C. 1321. The Complaint alleges that the companies and individuals are liable for violations related to the commercial fishing vessel Challenge's operations in New Bedford Harbor and in coastal waters off of southeastern New England. The Complaint addresses discharges of oily bilge waste from the vessel while in port and at sea harvesting scallops, and the release of approximately 100 barrels of fuel oil in connection with the illegal overboard pumping of oily bilge water in August 2017. The Complaint also includes a Clean Water Act claim for violations of the Coast Guard's pollution control regulation related to the defendants' failure to provide sufficient capacity to retain all oily bilge water onboard the vessel. The United States seeks civil penalties and injunctive relief to deter future violations by the defendants and others in the industry.

Under the proposed Consent Decree, the defendants will pay a total of $414,000 as civil penalties and perform corrective measures across a fleet of five commercial fishing vessels. The defendants will be required, among other things, to repair the vessels to reduce the generation of oily bilge water, operate within the vessels' capacity to retain oily bilge for the full length of planned voyages, provide crew and management training on the proper handling of oily wastes, document all oil and oily waste transfers on and off of the vessels, including documenting proper disposal of engine room bilge water at a shore reception facility, and submit compliance reports.

The publication of this notice opens a period for public comment on the proposed Consent Decree. Comments should be addressed to the Acting Assistant Attorney General, Environment and Natural Resources Division, and should refer to United States of America v. Challenge Fisheries LLC et al., D.J. Ref. No. 90-5-1-1-11901. All comments must be submitted no later than thirty (30) days after the publication date of this notice. Comments may be submitted by either email or by mail:

To submit comments: | Send them to:
By email | pubcomment-ees.enrd@usdoj.gov.
By mail | Acting Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $13.00 (25 cents per page reproduction cost) payable to the United States Treasury.

Thomas Carroll,
Assistant Section Chief, Environmental Enforcement Section, Environment and Natural Resources Division.

[FR Doc. 2018-10047 Filed 5-10-18; 8:45 am]

BILLING CODE 4410-15-P